FEDERAL TRADE COMMISSION

16 CFR Part 305

[RIN 3084-AB15]

Energy Labeling Rule

AGENCY: Federal Trade Commission (“FTC” or “Commission”).

ACTION: Notice of Proposed Rulemaking.

SUMMARY: The Commission proposes to amend the Energy Labeling Rule (“Rule”) by updating ranges of comparability and unit energy cost figures on EnergyGuide labels for dishwashers, furnaces, room air conditioners, and pool heaters. The Commission also proposes to set a compliance date for EnergyGuide labels on room air conditioner boxes.

DATES: Comments must be received by December 4, 2017.

ADDRESSES: Interested parties may file a comment online or on paper by following the instructions in the Request for Comment part of the SUPPLEMENTARY INFORMATION section below. Write “Energy Label Ranges, Matter No. R611004” on your comment, and file your comment online at https://ftcpublic.commentworks.com/ftc/labelranges by following the instructions on the web-based form. If you prefer to file your comment on paper, mail your comment to the following address: Federal Trade Commission, Office of the Secretary, 600 Pennsylvania Avenue NW., Suite CC-5610 (Annex E), Washington, DC 20580, or deliver your comment to the following address: Federal Trade Commission, Office of the Secretary, Constitution Center, 400 7th Street SW., 5th Floor, Suite 5610 (Annex E), Washington, DC 20024.

FOR FURTHER INFORMATION CONTACT: Hampton Newsome, (202) 326-2889, Attorney, Division of Enforcement, Bureau of Consumer Protection, Federal Trade Commission, Room CC-9528, 600 Pennsylvania Avenue NW., Washington, DC 20580.

SUPPLEMENTARY INFORMATION:

I. Background

The Commission issued the Energy Labeling Rule (“Rule”) in 1979,¹ pursuant to the Energy Policy and Conservation Act of 1975 (EPCA).² The Rule requires energy labeling for major home appliances and other consumer products to help consumers compare competing models. It also contains labeling requirements for refrigerators, refrigerator-freezers, freezers, dishwashers, water heaters, clothes washers, room air conditioners, furnaces, central air conditioners, heat pumps, plumbing products, lighting products, ceiling fans, and televisions.

¹ 44 FR 66466 (Nov. 19, 1979).

² 42 U.S.C. 6294. EPCA also requires the Department of Energy (DOE) to develop test procedures that measure how much energy appliances use, and to determine the representative average cost a consumer pays for different types of energy.

The Rule requires manufacturers to attach yellow EnergyGuide labels to many covered products and prohibits retailers from removing these labels or rendering them illegible. In addition, it directs sellers, including retailers, to post label information on Web sites and in paper catalogs from which consumers can order products. EnergyGuide labels for most covered products contain three key disclosures: Estimated annual energy cost, a product's energy consumption or energy efficiency rating as determined by DOE test procedures, and a comparability range displaying the highest and lowest energy costs or efficiency ratings for all similar models. For cost calculations, the Rule specifies national average costs for applicable energy sources (e.g., electricity, natural gas, oil) as calculated by DOE. Under the Rule, the Commission periodically updates comparability range and annual energy cost information based on manufacturer data submitted pursuant to the Rule's reporting requirements.³ The Rule sets a five-year schedule for updating range of comparability and annual energy cost information.⁴

³ 16 CFR 305.10.

⁴ 16 CFR 305.10.

II. Proposed Amendments

As discussed below, the Commission proposes to update comparability ranges (Appendices A-J to Part 305) and national average energy cost figures (Appendix K to Part 305) for several product categories consistent with the Rule's five-year schedule. This document also contains changes to EnergyGuide label location for room air conditioners previously announced by the Commission.⁵

⁵ The amendments include minor clarifying language to section 305.10(c) regarding the placement of energy cost information on the labels for certain models that have energy costs falling outside of the current ranges. The amendments also include changes to correct rule language in section 305.5 (obsolete reference to LED bulbs), section 305.8 (reference to the timing of reporting requirements), section 305.12 (sample label references for central air conditioners labels), and section 305.16 (plumbing disclosures).

A. Comparability Range and Energy Cost Revisions

In accordance with the Rule's five-year schedule for label updates, the Commission publishes proposed revisions to the comparability range and energy cost information for dishwashers, furnaces, pool heaters, and room air conditioners.⁶ The comparability ranges (i.e., scales) show the highest and lowest energy costs or energy efficiency ratings of models similar to the labeled product. The Commission derives these ranges from annual data submitted by manufacturers. In addition, the Commission is updating the average energy cost figures manufacturers must use to calculate a model's estimated energy cost for the label based on national average cost figures published by DOE.⁷ To effect these changes, the Commission proposes amendments to the applicable tables in the Rule's appendices. Manufacturers must begin using this new information on product labels within 90 days after publication of a final rule in this proceeding. Manufacturers do not have to relabel products labeled prior to the effective date. The Commission also proposes amending the energy cost tables in Appendix K to clarify the cost applicable to various covered products.⁸

⁶ 16 CFR 305.10. This document also proposes to update the sample labels in the Rule's appendices to reflect the new range and cost information and to include the minor label content changes discussed in this document.

⁷ 82 FR 21213 (May 5, 2017) (DOE notice for “Representative Average Unit Costs of Energy”).

⁸ Applicable energy cost figures for ceiling fans, lighting products, and televisions appear in sections 305.13 (effective September 17, 2018), 305.15, and 305.17 respectively.

The Commission does not propose amending range and cost information for EnergyGuide labels for refrigerators, freezers, clothes washers, water heaters, central air conditioners, and televisions because label information for these products has been updated recently.⁹ Changing labels for these products again would unnecessarily burden manufacturers and potentially confuse consumers by introducing new label information in the marketplace so soon after recent changes.¹⁰

⁹ See 81 FR 63634 (Sept. 15, 2016) (new range information for refrigerators and freezers, water heaters, and central air conditioners effective June 12, 2017); 81 FR 7201 (Feb. 11, 2016) (new ranges for clothes washers effective May 11, 2016); and 80 FR 16259 (Mar. 27, 2015) (updated ranges for televisions effective July 15, 2015).

¹⁰ The Commission followed a similar approach during the last cycle of range and cost updates. See 78 FR 1779 (Jan. 9, 2013).

B. Room Air Conditioner Labels on Packages

The proposed amendments also set a compliance date for changes to room air conditioner labels previously announced by the Commission. In 2015, the Commission announced final amendments to require labels on room air conditioner boxes and replace the EER (“Energy Efficiency Ratio”) disclosure with CEER (“Combined Energy Efficiency Ratio”) (80 FR 67285, 67292-3 (Nov. 2, 2015)). However, to reduce burden on manufacturers that use both the U.S. and Canadian labels, the Commission delayed a compliance date announcement until Natural Resources Canada (NRCan), which administers the Canadian EnerGuide labeling program, had announced similar provisions. On December 28, 2016, NRCan published regulatory amendments providing manufacturers the option to print the EnerGuide label on packaging (Canada Gazette, Vol. 150, No. 26 (Dec. 28, 2016)) in lieu of affixing the EnerGuide label to the product. Thus, now it is appropriate to announce a compliance date.

To ensure ample time for manufacturers to redesign packaging, the Commission proposes to set an effective date of October 1, 2018. This date should coincide with the beginning of the product season giving manufacturers ample time to comply without undue burden. However, manufacturers may begin using labels on packages immediately after the Commission publishes final amendments to the ranges.¹¹ Consistent with the Rule's schedule for range updates (§ 305.10), this document includes proposed comparability range updates for room ACs and amendments to transition from the EER to CEER disclosure on the label. Under the Commission's rules, new ranges must appear on labels within 90 days (§ 305.10) following publication of the final range amendments. In meeting the 90-day requirement, room AC manufacturers may either update their existing adhesive labels affixed to the unit itself or transition to the box labels.

¹¹ The Commission is also updating the label to include CEER disclosures in place of EER as also announced in the November 2, 2015 Rule (80 FR 67285, 67292-3).

III. Request for Comment

You can file a comment online or on paper. For the Commission to consider your comment, we must receive it on or before December 4, 2017. Write “Energy Label Ranges, Matter R611004” on your comment. Your comment—including your name and your state—will be placed on the public record of this proceeding, including, to the extent practicable, on the public Commission Web site, at https://www.ftc.gov/policy/public-comments.

Postal mail addressed to the Commission is subject to delay due to heightened security screening. As a result, we encourage you to submit your comments online. To make sure that the Commission considers your online comment, you must file it at https://ftcpublic.commentworks.com/ftc/labelranges, by following the instructions on the web-based form. If this document appears at https://www.regulations.gov, you also may file a comment through that Web site.

If you prefer to file your comment on paper, write “Energy Label Ranges, Matter R611004” on your comment and on the envelope, and mail your comment to the following address: Federal Trade Commission, Office of the Secretary, 600 Pennsylvania Avenue NW., Suite CC-5610 (Annex E), Washington, DC 20580, or deliver your comment to the following address: Federal Trade Commission, Office of the Secretary, Constitution Center, 400 7th Street SW., 5th Floor, Suite 5610 (Annex E), Washington, DC 20024. If possible, submit your paper comment to the Commission by courier or overnight service.

Because your comment will be placed on the publicly accessible FTC Web site at https://www.ftc.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”-as provided by Section 6(f) of the FTC Act, 15 U.S.C. 46(f), and FTC Rule 4.10(a)(2), 16 CFR 4.10(a)(2)-including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted on the public FTC Web site—as legally required by FTC Rule 4.9(b)—we cannot redact or remove your comment from the FTC Web site, unless you submit a confidentiality request that meets the requirements for such treatment under FTC Rule 4.9(c), and the General Counsel grants that request.

Visit the Commission Web site at https://www.ftc.gov to read this document and the news release describing it. The FTC Act and other laws that the Commission administers permit the collection of public comments to consider and use in this proceeding, as appropriate. The Commission will consider all timely and responsive public comments that it receives on or before December 4, 2017. You can find more information, including routine uses permitted by the Privacy Act, in the Commission's privacy policy, at: https://www.ftc.gov/site-information/privacy-policy.

Because written comments appear adequate to present the views of all interested parties, the Commission has not scheduled an oral hearing regarding these proposed amendments. Interested parties may request an opportunity to present views orally. If such a request is made, the Commission will publish a document in the Federal Register stating the time and place for such oral presentation(s) and describing the procedures that will be followed. Interested parties who wish to present oral views must submit a hearing request, on or before November 24, 2017, in the form of a written comment that describes the issues on which the party wishes to speak. If there is no oral hearing, the Commission will base its decision on the written rulemaking record.

IV. Paperwork Reduction Act

The current Rule contains recordkeeping, disclosure, testing, and reporting requirements that constitute information collection requirements as defined by 5 CFR 1320.3(c), the definitional provision within the Office of Management and Budget (OMB) regulations that implement the Paperwork Reduction Act (PRA). OMB has approved the Rule's existing information collection requirements through November 30, 2019 (OMB Control No. 3084 0069). The proposed amendments do not change the substance or frequency of the recordkeeping, disclosure, or reporting requirements and, therefore, do not require further OMB clearance.

V. Regulatory Flexibility Act

The provisions of the Regulatory Flexibility Act relating to a Regulatory Flexibility Act analysis (5 U.S.C. 603-604) are not applicable to this proceeding because the proposed amendments do not impose any new obligations on entities regulated by the Energy Labeling Rule. As explained elsewhere in this document, the proposed amendments do not significantly change the substance or frequency of the recordkeeping, disclosure, or reporting requirements. Thus, the amendments will not have a “significant economic impact on a substantial number of small entities.” 5 U.S.C. 605. The Commission has concluded, therefore, that a regulatory flexibility analysis is not necessary, and certifies, under Section 605 of the Regulatory Flexibility Act (5 U.S.C. 605(b)), that the proposed amendments will not have a significant economic impact on a substantial number of small entities.

VI. Proposed Rule Language

List of Subjects in 16 CFR Part 305

Advertising, Energy conservation, Household appliances, Labeling, Reporting and recordkeeping requirements.

For the reasons set out above, the Commission proposes to amend 16 CFR part 305 as follows:

PART 305—ENERGY AND WATER USE LABELING FOR CONSUMER PRODUCTS UNDER THE ENERGY POLICY AND CONSERVATION ACT (“ENERGY LABELING RULE”)

1. The authority citation for Part 305 continues to read as follows:

Authority: 42 U.S.C. 6294.

2. In § 305.5, remove paragraph (c) and redesignate paragraph (d) as paragraph (c).

3. In § 305.8, revise paragraph (c) to read as follows:

§ 305.8 Submission of data.

* * * * *

(c) All information required by paragraph (a)(1) through (a)(3) of this section must be submitted for new models prior to any distribution of such model. Models subject to design or retrofit alterations which change the data contained in any annual report shall be reported in the manner required for new models. Models which are discontinued shall be reported in the next annual report.

4. In § 305.10, paragraphs (a) and (b) are revised and paragraph (c)(3) is added to read as follows:

§ 305.10 Ranges of comparability on the required labels.

(a) Range of estimated annual energy costs or energy efficiency ratings. The range of estimated annual operating costs or energy efficiency ratings for each covered product (except televisions, ceiling fans, fluorescent lamp ballasts, lamps, metal halide lamp fixtures, showerheads, faucets, water closets and urinals) shall be taken from the appropriate appendix to this part in effect at the time the labels are affixed to the product. The Commission shall publish revised ranges in the Federal Register in 2022. When the ranges are revised, all information disseminated after 90 days following the publication of the revision shall conform to the revised ranges. Products that have been labeled prior to the effective date of a modification under this section need not be relabeled.

(b) Representative average unit energy cost. The Representative Average Unit Energy Cost to be used on labels as required by § 305.11 and disclosures as required by § 305.20 are listed in appendices K1 and K2 to this part. The Commission shall publish revised Representative Average Unit Energy Cost figures in the Federal Register in 2022. When the cost figures are revised, all information disseminated after 90 days following the publication of the revision shall conform to the new cost figure.

(c) * * *

(3) For refrigerator and refrigerator-freezer labels:

(i) If the model's energy cost falls outside of either or both ranges on the label, include the language in paragraph (c)(2) of this section.

(ii) If the model's energy cost only falls outside of the range for models with similar features, but is within the range for all models, include the product on the scale and place a triangle below the dollar value.

(iii) If the model's energy cost falls outside of both ranges of comparability, omit the triangle beneath the yearly operating cost value.

5. Amend § 305.11 by republishing paragraph (d) introductory text and adding paragraph (d)(3) to read as follows:

§ 305.11 Labeling for refrigerators, refrigerator-freezers, freezers, dishwashers, clothes washers, water heaters, room air conditioners, and pool heaters.

* * * * *

(d) Label types. Except as indicated in paragraph (d)(3) of this section, the labels must be affixed to the product in the form of an adhesive label or a hang tag as follows:

* * * * *

(3) Package labels for certain products. Labels for electric instantaneous water heaters shall be printed on or affixed to the product's packaging in a conspicuous location. Labels for room air conditioners produced on or after October 1, 2018 shall be printed on or affixed to the principal display panel of the product's packaging.

* * * * *

6. In § 305.12, revise paragraphs (g)(12)(ii), (g)(13)(ii), and (g)(14)(ii) to read as follows:

§ 305.12 Labeling for central air conditioners, heat pumps, and furnaces.

* * * * *

(g) * * *

(12) * * *

(iii) A map appropriate for the model and accompanying text as illustrated in the sample label 7 in appendix L.

* * * * *

(13) * * *

(ii) A map appropriate for the model and accompanying text as illustrated in the sample label 7 in appendix L.

* * * * *

(14) For any single-package air conditioner with a minimum EER below 11.0, the label must contain the following regional standards information:

(ii) A map appropriate for the model and accompanying text as illustrated in the sample label 7 in appendix L.

* * * * *

7. Amend § 305.16 by removing paragraph (a)(5).

8. Appendix C1 to Part 305 is revised to read as follows:

Appendix C1 to Part 305—Compact Dishwashers

Range Information

“Compact” includes countertop dishwasher models with a capacity of fewer than eight (8) place settings. Place settings shall be in accordance with appendix C to 10 CFR part 430, subpart B. Load patterns shall conform to the operating normal for the model being tested.

Capacity | Range of estimated annual energy costs (dollars/year): Low | Range of estimated annual energy costs (dollars/year): High
Compact | $17 | $27

9. Appendix C2 to Part 305 is revised to read as follows:

Appendix C2 to Part 305—Standard Dishwashers

Range Information

“Standard” includes dishwasher models with a capacity of eight (8) or more place settings. Place settings shall be in accordance with appendix C to 10 CFR part 430, subpart B. Load patterns shall conform to the operating normal for the model being tested.

Capacity | Range of estimated annual energy costs (dollars/year): Low | Range of estimated annual energy costs (dollars/year): High
Standard | $26 | $40

10. Appendix E to Part 305 is revised to read as follows:

Appendix E to Part 305—Room Air Conditioners

Range Information

Manufacturer's rated cooling capacity in Btu's/hr | Range of estimated annual energy costs (dollars/year): Low | Range of estimated annual energy costs (dollars/year): High
Without Reverse Cycle and with Louvered Sides:
Less than 6,000 Btu | $40 | $53
6,000 to 7,999 Btu | 48 | 72
8,000 to 13,999 Btu | 65 | 127
14,000 to 19,999 Btu | 115 | 182
20,000 and more Btu | 189 | 386
Without Reverse Cycle and without Louvered Sides:
Less than 6,000 Btu | * | *
6,000 to 7,999 Btu | 58 | 80
8,000 to 13,999 Btu | 69 | 147
14,000 to 19,999 Btu | 117 | 158
20,000 and more Btu | * | *
With Reverse Cycle and with Louvered Sides | 68 | 238
With Reverse Cycle, without Louvered Sides | * | *
* No sufficient data submitted.

11. Revise Appendices G1, G2, G3, G4, G5, G6, G7, and G8 to read as follows:

Appendix G1 to Part 305—Furnaces—Gas

Furnace type | Range of annual fuel utilization efficiencies (AFUEs): Low | Range of annual fuel utilization efficiencies (AFUEs): High
Non-Weatherized Gas Furnaces—All Capacities | 80.0 | 98.7
Weatherized Gas Furnaces—All Capacities | 81.0 | 95.0

Appendix G2 to Part 305—Furnaces—Electric

Furnace type | Range of annual fuel utilization efficiencies (AFUEs): Low | Range of annual fuel utilization efficiencies (AFUEs): High
Electric Furnaces—All Capacities | 100.0 | 100.0

Appendix G3 to Part 305—Furnaces—Oil

Type | Range of annual fuel utilization efficiencies (AFUEs): Low | Range of annual fuel utilization efficiencies (AFUEs): High
Non-Weatherized Oil Furnaces—All Capacities | 83.0 | 96.7
Weatherized Oil Furnaces—All Capacities | 78.0 | 83.0

Appendix G4 to Part 305—Mobile Home Furnaces—Gas

Type | Range of annual fuel utilization efficiencies (AFUEs): Low | Range of annual fuel utilization efficiencies (AFUEs): High
Mobile Home Gas Furnaces—All Capacities | 80.0 | 97.3

Appendix G5 to Part 305—Mobile Home Furnaces—Oil

Type | Range of annual fuel utilization efficiencies (AFUEs): Low | Range of annual fuel utilization efficiencies (AFUEs): High
Mobile Home Oil Furnaces—All Capacities | 80.0 | 87.0

Appendix G6 to Part 305—Boilers (Gas)

Type | Range of annual fuel utilization efficiencies (AFUEs): Low | Range of annual fuel utilization efficiencies (AFUEs): High
Gas Boilers (except steam)—All Capacities | 82.0 | 96.8
Gas Boilers (steam)—All Capacities | 80.4 | 83.4

Appendix G7 to Part 305—Boilers (Oil)

Type | Range of annual fuel utilization efficiencies (AFUEs): Low | Range of annual fuel utilization efficiencies (AFUEs): High
Oil Boilers—All Capacities | 84.0 | 90.0

Appendix G8 to Part 305—Boilers (Electric)

Type | Range of annual fuel utilization efficiencies (AFUEs): Low | Range of annual fuel utilization efficiencies (AFUEs): High
Electric Boilers—All Capacities | 100 | 100

12. Appendices J1 and J2 are revised to read as follows:

Appendix J1 to Part 305—Pool Heaters—Gas

Range Information

Manufacturer's rated heating capacities | Range of thermal efficiencies (percent): Natural gas: Low | Range of thermal efficiencies (percent): Natural gas: High | Range of thermal efficiencies (percent): Propane: Low | Range of thermal efficiencies (percent): Propane: High
All capacities | 82.0 | 96.0 | 82.0 | 96.0

Appendix J2 to Part 305—Pool Heaters—Oil

Range Information
Manufacturer's rated heating capacities | Range of thermal efficiencies (percent): Low | Range of thermal efficiencies (percent): High
All capacities | (*) | (*)
* No data submitted.

13. Appendix K to Part 305 is removed and Appendices K1 and K2 are added to read as follows:

Appendix K1 to Part 305—Representative Average Unit Energy Costs for Refrigerators, Refrigerator-Freezers, Freezers, Clothes Washers, and Water Heater Labels

This Table contains the representative unit energy costs that must be utilized to calculate estimated annual energy cost disclosures required under sections 305.11 and 305.20 for refrigerators, refrigerator-freezers, freezers, clothes washers, and water heaters. This Table is based on information published by the U.S. Department of Energy in 2013.

Type of energy | In commonly used terms | As required by DOE test procedure
Electricity | ¢12.00/kWh 2 3 | $.1200/kWh.
Natural Gas | $1.09/therm,⁴ $11.12/MCF 5 6 | $0.0000109/Btu.
No. 2 heating oil | $3.80/gallon ⁷ | $0.00002740/Btu.
Propane | $2.41/gallon ⁸ | $0.00002639/Btu.
Kerosene | $4.21/gallon ⁹ | $ 0.00003119/Btu.
¹ Btu stands for British thermal unit.
² kWh stands for kiloWatt hour.
³ 1 kWh = 3,412 Btu.
⁴ 1 therm = 100,000 Btu. Natural gas prices include taxes.
⁵ MCF stands for 1,000 cubic feet.
⁶ For the purposes of this table, 1 cubic foot of natural gas has an energy equivalence of 1,023 Btu.
⁷ For the purposes of this table, 1 gallon of No. 2 heating oil has an energy equivalence of 138,690 Btu.
⁸ For the purposes of this table, 1 gallon of liquid propane has an energy equivalence of 91,333 Btu.
⁹ For the purposes of this table, 1 gallon of kerosene has an energy equivalence of 135,000 Btu.

Appendix K2 to Part 305—Representative Average Unit Energy Costs for Dishwasher and Room Air Conditioner Labels

This Table contains the representative unit energy costs that must be utilized to calculate estimated annual energy cost disclosures required under sections 305.11 and 305.20 for dishwashers and room air conditioners. This Table is based on information published by the U.S. Department of Energy in 2017.

Type of energy | In commonly used terms | As required by DOE test procedure
Electricity | ¢13.00/kWh 2 3 | $.1300/kWh.
Natural Gas | $1.05/therm ⁴ or$10.86/MCF 5 6 | $0.00001052/Btu.
No. 2 Heating Oil | $2.59/gallon ⁷ | $0.00001883/Btu.
Propane | $1.53/gallon ⁸ | $0.00001672/Btu.
Kerosene | $3.01/gallon ⁹ | $0.00002232/Btu.
¹ Btu stands for British thermal units.
² kWh stands for kilowatt hour.
³ 1 kWh = 3,412 Btu.
⁴ 1 therm = 100,000 Btu.
⁵ MCF stands for 1,000 cubic feet.
⁶ For the purposes of this table, one cubic foot of natural gas has an energy equivalence of 1,032 Btu.
⁷ For the purposes of this table, one gallon of No. 2 heating oil has an energy equivalence of 137,561 Btu.
⁸ For the purposes of this table, one gallon of liquid propane has an energy equivalence of 91,333 Btu.
⁹ For the purposes of this table, one gallon of kerosene has an energy equivalence of 135,000 Btu.

* * * * *

14. In Appendix L, revise sample labels 3 and 4, add sample label 6, and revise sample labels 9, and 9A to read as follows:

* * * * *

BILLING CODE 6750-01-P

* * * * *

* * * * *

* * * * *

* * * * *

* * * * *

By direction of the Commission.
Donald S. Clark,
Secretary.

[FR Doc. 2017-24381 Filed 11-8-17; 8:45 am]

BILLING CODE 6750-01-C